DEPARTMENT OF THE INTERIOR

Bureau of Land Management

[AZ-050-00-1430-NH; AZA 31171]

Arizona: Closure of Public Land to All Vehicle Use

AGENCY: Bureau of Land Management, DOI.

ACTION: Notice of closure.

SUMMARY: Notice is hereby given that the Bureau of Land Management is closing an area of public land located within Yuma County, Arizona, approximately 1 mile south of Interstate 8 and 3 miles west of Avenue 25 E to all vehicle use.

Order: Effective upon publication, that portion of public land described below is closed to all vehicle use for a term of 2 years:

Gila and Salt River Meridian, Yuma County, Arizona

T.9S., R.20 W.,

Sec. 1, E½NE¼SW¼ within, SE¼SW¼ within,

Sec. 12, W½NE¼ within, W½SE¼NE¼ within, NE¼NE¼NW¼ within, W½NE¼SE¼ within, SE¼SE¼ within,

Sec. 13, W½NE¼NE¼ within, W½NE¼ within, SW¼SW¼ (south 50 feet) within, E½SE¼SW¼ within, SW¼SE¼SW¼ (south 50 feet) within, W½NW¼SE¼ within, SE¼ (south 50 feet) within.

Containing 22.36 acres, more or less.

No person may use, drive, transport, park, let stand, or have charge or control over any vehicle in this area. Exemptions to this order are granted to law enforcement and other emergency vehicles in the course of official duties. This order does not affect Bureau of Reclamation and Wellton-Mohawk Irrigation and Drainage District personnel in the course of their official duties along the Wellton-Mohawk Canal and related facilities. This order does not affect Arizona Department of Transportation personnel in the course of their official duties within the Interstate 8 right-of-way.

All other exemptions to this order are by written authorization of the Bureau of Land Management, Yuma Field Manager only.

EFFECTIVE DATE: March 17, 2000.

FOR FURTHER INFORMATION CONTACT: Realty Specialist Lucas Lucero, Bureau of Land Management, Yuma Field Office, 2555 E. Gila Ridge Road, Yuma, Arizona 85365, telephone (520) 317-3237.

SUPPLEMENTARY INFORMATION: The purpose of this closure is to protect the natural and cultural resources from disturbance caused by unauthorized vehicle use. This closure is needed in order to assess existing resource damage and prevent any further damage caused by vehicle use and unauthorized road improvements. The affected area will be posted with standard signs prohibiting vehicle use. Authority for this closure of public land to vehicle use is found at Title 43 Code of Federal Regulations, subpart 8360.0-3. In accordance with 43 CFR 8360.0-7, violation of this order is punishable by a fine not to exceed $100,000 and/or imprisonment not to exceed 12 months.

Dated: March 7, 2000.
Gail Acheson,
Field Manager.

[FR Doc. 00-6592 Filed 3-16-00; 8:45 am]

BILLING CODE 4310-62-M